DEPARTMENT OF DEFENSE

Department of the Air Force

[AFD 2216]

Notice of Intent To Grant an Exclusive Patent License

AGENCY: Department of the Air Force, Department of Defense.

ACTION: Notice of intent.

SUMMARY: Pursuant to the Bayh-Dole Act and implementing regulations, the Department of the Air Force hereby gives notice of its intent to grant an exclusive patent license to University of Florida Research Foundation, Inc. (“UFRF”) having a place of business at 310 Walker Hall, Gainesville, Florida 32611.

DATES: Written objections must be filed no later than fifteen (15) calendar days after the date of publication of this Notice.

ADDRESSES: Submit written objections to Karleine M. Justice, Office of Research and Technical Applications, Air Force Institute of Technology, 2950 Hobson Way, Bldg 641, Rm 101C, Wright-Patterson AFB OH 45433-7765; Phone: (937) 255-3636 x4396; or Email: afit.cz.orta@us.af.mil. Include Docket No. AFD 2216 in the subject line of the message.

FOR FURTHER INFORMATION CONTACT: Karleine M. Justice, Office of Research and Technical Applications, Air Force Institute of Technology, 2950 Hobson Way, Bldg 641, Rm 101C, Wright-Patterson AFB OH 45433-7765; Phone: (937) 255-3636 x4396; or Email: afit.cz.orta@us.af.mil.

Abstract of patent application(s):

Tethered Alkylidynes and Methods of Making the same. Such compounds can be used as a catalyst to form cyclic polymers.

Intellectual property:

PCT Application PCT/US2022/043643, filed September 15, 2022.

The Department of the Air Force may grant the prospective license unless a timely objection is received that sufficiently shows the grant of the license would be inconsistent with the Bayh-Dole Act or implementing regulations. A competing application for a patent license agreement, completed in compliance with 37 CFR 404.8 and received by the Air Force within the period for timely objections, will be treated as an objection and may be considered as an alternative to the proposed license.

Authority: 35 U.S.C. 209; 37 CFR 404.

Tommy W. Lee,
Acting Air Force Federal Register Liaison Officer.

[FR Doc. 2023-18559 Filed 8-28-23; 8:45 am]

BILLING CODE 5001-10-P